DEPARTMENT OF TRANSPORTATION

Federal Aviation Administration

14 CFR Part 39

[Docket No. FAA-2022-0382; Project Identifier MCAI-2021-01452-T; Amendment 39-22099; AD 2022-13-13]

RIN 2120-AA64

Airworthiness Directives; Airbus SAS Airplanes

AGENCY: Federal Aviation Administration (FAA), Department of Transportation (DOT).

ACTION: Final rule.

SUMMARY: The FAA is adopting a new airworthiness directive (AD) for all Airbus SAS Model A350-941 and -1041 airplanes. This AD was prompted by reports that passenger door stop screws were found with missing screw heads. This AD requires repetitive inspections of each passenger door stop screw for any missing screw heads and applicable corrective actions, as specified in a European Union Aviation Safety Agency (EASA) AD, which is incorporated by reference. The FAA is issuing this AD to address the unsafe condition on these products.

DATES: This AD is effective August 9, 2022.

The Director of the Federal Register approved the incorporation by reference of a certain publication listed in this AD as of August 9, 2022.

ADDRESSES: For material incorporated by reference (IBR) in this AD, contact EASA, Konrad-Adenauer-Ufer 3, 50668 Cologne, Germany; telephone +49 221 8999 000; email ADs@easa.europa.eu; internet www.easa.europa.eu. You may find this material on the EASA website at https://ad.easa.europa.eu. You may view this material at the FAA, Airworthiness Products Section, Operational Safety Branch, 2200 South 216th St., Des Moines, WA. For information on the availability of this material at the FAA, call 206-231-3195. It is also available on the internet at https://www.regulations.gov by searching for and locating Docket No. FAA-2022-0382.

Examining the AD Docket

You may examine the AD docket at https://www.regulations.gov by searching for and locating Docket No. FAA-2022-0382; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Dan Rodina, Aerospace Engineer, Large Aircraft Section, International Validation Branch, FAA, 2200 South 216th Street, Des Moines, WA 98198; telephone and fax 206-231-3225; email dan.rodina@faa.gov.

SUPPLEMENTARY INFORMATION:

Background

EASA, which is the Technical Agent for the Member States of the European Union, has issued EASA AD 2021-0291, dated December 22, 2021 (EASA AD 2021-0291) (also referred to as the MCAI), to correct an unsafe condition for all Airbus SAS Model A350-941 and -1041 airplanes.

The FAA issued a notice of proposed rulemaking (NPRM) to amend 14 CFR part 39 by adding an AD that would apply to all Airbus SAS Model A350-941 and -1041 airplanes. The NPRM published in the Federal Register on March 31, 2022 (87 FR 18744). The NPRM was prompted by reports that passenger door stop screws were found with missing screw heads. The NPRM proposed to require repetitive general visual inspections (GVI) of each passenger door stop screw for any missing screw heads, and applicable corrective actions, as specified in EASA AD 2021-0291.

The FAA is issuing this AD to address missing door stop screw heads, which could result in reduced structural integrity of the airplane. See the MCAI for additional background information.

Discussion of Final Airworthiness Directive

Comments

The FAA received comments from Delta Airlines (DAL). The following presents the comments received on the NPRM and the FAA's response to each comment.

Request To Remove the Reporting Requirement

DAL requested that the FAA remove the reporting requirement in paragraph (h) of the proposed AD. DAL stated that Note 3 in paragraph (4) of EASA AD 2021-0291 indicates that “[u]sing the inspection report in accordance with the instructions of [the specified service information] is acceptable to comply with the requirements” of paragraph (4). The commenter added that the service information specified in EASA AD 2021-0291 states that the relevant Task (“Complete the Inspection Report Sheet”) specifies that sending the Inspection Report sheet is not an RC (required for compliance) step. The commenter stated that EASA AD 2021-0291, by referencing the service information in Note 3, appears to approve completing the inspection report sheet, but does not require sending the inspection report as it is not required for compliance.

The FAA does not agree to the requested change. The inspection reports that are required by this AD will enable the manufacturer to obtain better insight into the nature, cause, and extent of the missing screw heads, and may help the FAA determine whether different AD requirements may be appropriate. Further, EASA AD 2021-0291 requires reporting inspection results to Airbus in paragraph (4) and note 3 is only an option of how to comply with that reporting requirement. This AD has not been changed with regard to this request.

Request To Clarify the Timing for Reporting

If the FAA does not remove the reporting requirement as DAL requested, DAL recommended revised compliance times for reporting, which DAL asserted would remove restrictive time constraints while still meeting the intent of the proposed AD. Delta stated that commonly the scanned records from each airplane visit are not available until after the end of the visit (when the entire package is sent for scanning all at once), which could take up to 75 days. Delta added that potentially a report due under the conditions of paragraph (h)(3)(ii) of the proposed AD could involve a case where the service information and AD inspections were signed off 20 days into their 75-day long visit but before the AD's effective date, and could result in manual coordination with the Production Control Office.

• For paragraph (h)(3)(i) of the proposed AD, DAL recommended revising the reporting compliance time as “within 30 days after the end of the maintenance visit/check during which the inspection was performed” instead of “within 30 days after the inspection.”

• For paragraph (h)(3)(ii) of the proposed AD, DAL recommended this paragraph to state “within 30 days after the end of the maintenance visit/check during which the inspection was performed or within 30 days after the effective date of this AD, whichever occurs last” instead of “within 30 days after the effective date of this AD.”

The FAA agrees with the request for the reasons provided, and has revised paragraphs (h)(3)(i) and (ii) of this AD accordingly.

Conclusion

The FAA reviewed the relevant data, considered the comments received, and determined that air safety requires adopting this AD as proposed. Except for minor editorial changes, and any other changes described previously, this AD is adopted as proposed in the NPRM. None of the changes will increase the economic burden on any operator. Accordingly, the FAA is issuing this AD to address the unsafe condition on these products.

Related Service Information Under 1 CFR Part 51

EASA AD 2021-0291 specifies procedures for repetitive general visual inspections (GVI) of each passenger door stop screw for any missing screw heads, and applicable corrective actions. The corrective actions include replacement of the passenger door stop screw, repair, and follow-up actions (GVI of the adjacent door stop area and surrounding structure for damage, including any broken door stop screws). EASA AD 2021-0291 also specifies procedures for reporting results of the initial inspection to Airbus. This service information is reasonably available because the interested parties have access to it through their normal course of business or by the means identified in the ADDRESSES section.

Costs of Compliance

The FAA estimates that this AD affects 27 airplanes of U.S. registry. The FAA estimates the following costs to comply with this AD:

Estimated Costs for Required Actions *
Labor cost | Parts cost | Cost per product | Cost on U.S. operators
8 work-hours × $85 per hour = $680 | $0 | $680 | $18,360
* Table does not include estimated costs for reporting.

The FAA estimates that it would take about 1 work-hour per product to comply with the reporting requirement in this AD. The average labor rate is $85 per hour. Based on these figures, the FAA estimates the cost of reporting the inspection results on U.S. operators to be $2,295, or $85 per product.

The FAA estimates the following costs to do any necessary on-condition screw replacement that would be required based on the results of any required actions. The FAA has no way of determining the number of aircraft that might need this on-condition action:

Estimated Costs of On-Condition Actions
Labor cost | Parts cost | Cost per product
1 work-hour × $85 per hour = $85 per screw replacement | $875 per screw | $960 per screw replacement.

The FAA has received no definitive data on which to base the cost estimates for the on-condition repairs or applicable follow-up actions specified in this AD.

According to the manufacturer, some or all of the costs of this AD may be covered under warranty, thereby reducing the cost impact on affected individuals. The FAA does not control warranty coverage for affected individuals. As a result, the FAA has included all known costs in the cost estimate.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-13-13 Airbus SAS: Amendment 39-22099; Docket No. FAA-2022-0382; Project Identifier MCAI-2021-01452-T.

(a) Effective Date

This airworthiness directive (AD) is effective August 9, 2022.

(b) Affected ADs

None.

(c) Applicability

This AD applies to all Airbus SAS Model A350-941 and -1041 airplanes, certificated in any category.

(d) Subject

Air Transport Association (ATA) of America Code 52, Doors.

(e) Unsafe Condition

This AD was prompted by reports that passenger door stop screws were found with missing screw heads. The FAA is issuing this AD to address the missing door stop screw heads, which could result in reduced structural integrity of the airplane.

(f) Compliance

Comply with this AD within the compliance times specified, unless already done.

(g) Requirements

Except as specified in paragraph (h) of this AD: Comply with all required actions and compliance times specified in, and in accordance with, European Union Aviation Safety Agency (EASA) AD 2021-0291, dated December 22, 2021 (EASA AD 2021-0291).

(h) Exceptions to EASA AD 2021-0291

(1) Where EASA AD 2021-0291 refers to its effective date, this AD requires using the effective date of this AD.

(2) The “Remarks” section of EASA AD 2021-0291 does not apply to this AD.

(3) Paragraph (4) of EASA AD 2021-0291 specifies to report results of the initial inspection to Airbus within a certain compliance time. For this AD, report inspection results of the initial inspection at the applicable time specified in paragraph (h)(3)(i) or (ii) of this AD.

(i) If the inspection was done on or after the effective date of this AD: Submit the report within 30 days after the end of the maintenance visit/check during which the inspection was performed.

(ii) If the inspection was done before the effective date of this AD: Submit the report within 30 days after the end of the maintenance visit/check during which the inspection was performed or within 30 days after the effective date of this AD, whichever occurs later.

(4) Where Note 2 of paragraph (2) of EASA AD 2021-0291 specifies using “the instructions from an applicable Airbus Repair Design Approval Form (RDAF)” is acceptable for compliance with the corrective actions, this AD requires using corrective actions approved using a method approved by the Manager, Large Aircraft Section, International Validation Branch, FAA; or EASA; or Airbus SAS's EASA DOA. If approved by the DOA, the approval must include the DOA-authorized signature.

(5) Where paragraph (2) of EASA AD 2021-0291 refers to passenger door stop screws that are “damaged, as defined in the SB” this AD defines damage as broken passenger door stop screws.

(6) Where service information referenced in EASA AD 2021-0291 specifies “a general visual inspection of the adjacent door stop area and surrounding structure (no lining removal required),” for this AD do a general visual inspection for any damage (e.g., broken passenger door stop screws), and repair any damage before further flight using a method approved by the Manager, Large Aircraft Section, International Validation Branch, FAA; or EASA; or Airbus SAS's EASA Design Organization Approval (DOA). If approved by the DOA, the approval must include the DOA-authorized signature.

(i) Return of Parts

Although the service information referenced in EASA AD 2021-0291 specifies to send broken screws to Airbus, this AD does not include that requirement.

(j) Special Flight Permit

Special flight permits may be issued in accordance with 14 CFR 21.197 and 21.199 to operate the airplane to a location where the actions of this AD can be performed (if the operator elects to do so), provided no passengers are onboard.

(k) Additional AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (l) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (k)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

For more information about this AD, contact Dan Rodina, Aerospace Engineer, Large Aircraft Section, International Validation Branch, FAA, 2200 South 216th Street, Des Moines, WA 98198; telephone and fax 206-231-3225; email dan.rodina@faa.gov.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2021-0291, dated December 22, 2021.

(ii) [Reserved]

(3) For EASA AD 2021-0291, contact EASA, Konrad-Adenauer-Ufer 3, 50668 Cologne, Germany; telephone +49 221 8999 000; email ADs@easa.europa.eu; internet www.easa.europa.eu. You may find this material on the EASA website at https://ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: https://www.archives.gov/federal-register/cfr/ibr-locations.html.

Issued on June 15, 2022.
Christina Underwood,
Acting Director, Compliance & Airworthiness Division, Aircraft Certification Service.

[FR Doc. 2022-14195 Filed 7-1-22; 8:45 am]

BILLING CODE 4910-13-P